DEPARTMENT OF HOMELAND SECURITY

Coast Guard

33 CFR Part 117

[Docket No. USCG-2013-0411]

Drawbridge Operation Regulation; Middle River, Near Stockton, CA

AGENCY: Coast Guard, DHS.

ACTION: Notice of deviation from drawbridge regulation.

SUMMARY: The Coast Guard has issued a temporary deviation from the operating regulation that governs the Bacon Island Drawbridge across Middle River, mile 8.6, near Stockton, CA. The deviation is to allow San Joaquin County Public Works Department to perform structural maintenance work to the bridge. This deviation allows the bridge to remain in the closed-to-navigation position during the repairs.

DATES: This deviation is effective from 12:01 a.m. on September 30, 2013 to 11:59 p.m. on October 31, 2013.

ADDRESSES: The docket for this deviation, [USCG-2013-0411], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone 510-437-3516, email David.H.Sulouff@uscg.mil. If you have questions on viewing the docket, call Barbara Hairston, Program Manager, Docket Operations, telephone 202-366-9826.

SUPPLEMENTARY INFORMATION: San Joaquin County Department of Public Works has requested a temporary change to the operation of the Bacon Island Drawbridge, mile 8.6, over Middle River, near Stockton, CA. The drawbridge navigation span provides a vertical clearance of approximately 8 feet above Mean High Water in the closed-to-navigation position. In accordance with 33 CFR 117.171(a), the draw opens on signal from May 15 through September 15 from 9 a.m. to 5 p.m. From September 16 through May 14, the draw opens on signal from 9 a.m. to 5 p.m. from Thursday through Monday. At all other times, the draw shall open on signal if at least 12 hours notice is given to the San Joaquin County Department of Public Works at Stockton. Navigation on the waterway is commercial and recreational.

The drawspan will be secured in the closed-to-navigation position from 12:01 a.m. on September 30, 2013 to 11:59 p.m. on October 31, 2013, due to structural maintenance work in replacing the approach deck slabs. The work will require loss of power to the bridge electrical systems.

This temporary deviation has been coordinated with commercial operators and various marinas. No objections to the proposed temporary deviation were raised. Vessels that can transit the bridge, while in the closed-to-navigation position, may continue to do so at any time.

In accordance with 33 CFR 117.35(e), the drawbridge must return to its regular operating schedule immediately at the end of the designated time period. This deviation from the operating regulations is authorized under 33 CFR 117.35.

Dated: May 24, 2013.
D. H. Sulouff,
District Bridge Chief, Eleventh Coast Guard District.

[FR Doc. 2013-13762 Filed 6-10-13; 8:45 am]

BILLING CODE 9110-04-P